DEPARTMENT OF ENERGY

Federal Energy Regulatory Commission

Combined Notice of Filings #1

Take notice that the Commission received the following electric rate filings:

Docket Numbers: ER14-1388-001.

Applicants: El Paso Electric Company.

Description: OATT Revisions to Reflect Palo Verde Index Pricing for Sch 4 and 9 Imbalances to be effective 5/1/2014.

Filed Date: 5/22/14.

Accession Number: 20140522-5078.

Comments Due: 5 p.m. ET 6/12/14.

Docket Numbers: ER14-1606-002.

Applicants: Cosima Energy, LLC.

Description: 2nd Amended MBR Tariff Filing to be effective 5/1/2014.

Filed Date: 5/22/14.

Accession Number: 20140522-5049.

Comments Due: 5 p.m. ET 6/12/14.

Docket Numbers: ER14-1776-001.

Applicants: Broken Bow Wind II, LLC.

Description: Broken Bow Wind II, LLC. Market-Based Rates Tariff Supplement to be effective 7/1/2014.

Filed Date: 5/21/14.

Accession Number: 20140521-5180.

Comments Due: 5 p.m. ET 6/4/14.

Docket Numbers: ER14-2006-000.

Applicants: New York Independent System Operator, Inc.

Description: NYISO compliance re: behind the meter generation to be effective 12/31/9998.

Filed Date: 5/21/14.

Accession Number: 20140521-5187.

Comments Due: 5 p.m. ET 6/11/14.

Docket Numbers: ER14-2007-000.

Applicants: Southern California Edison Company.

Description: GIA and Distribution Service Agreement with SunEdison for Pico Rivera Project to be effective 5/23/2014.

Filed Date: 5/22/14.

Accession Number: 20140522-5001.

Comments Due: 5 p.m. ET 6/12/14.

Docket Numbers: ER14-2008-000.

Applicants: Southwest Power Pool, Inc.

Description: Notice of Cancellation of Golden Spread Letter Agreement of Southwest Power Pool, Inc.

Filed Date: 5/22/14.

Accession Number: 20140522-5025.

Comments Due: 5 p.m. ET 6/12/14.

Docket Numbers: ER14-2009-000.

Applicants: Southwest Power Pool, Inc.

Description: 2562R1 Kansas Municipal Energy Agency NITSA and NOA to be effective 5/1/2014.

Filed Date: 5/22/14.

Accession Number: 20140522-5029.

Comments Due: 5 p.m. ET 6/12/14.

Docket Numbers: ER14-2010-000.

Applicants: PJM Interconnection, L.L.C.

Description: Notice of Cancellation of Original Service Agreement No. 3089; Queue No. W3-029 to be effective 1/16/2012.

Filed Date: 5/22/14.

Accession Number: 20140522-5036.

Comments Due: 5 p.m. ET 6/12/14.

Docket Numbers: ER14-2011-000.

Applicants: PJM Interconnection, L.L.C.

Description: Notice of Cancellation of Original Service Agreement No. 2931; Queue No. W2-091 to be effective 2/14/2012.

Filed Date: 5/22/14.

Accession Number: 20140522-5037.

Comments Due: 5 p.m. ET 6/12/14.

Docket Numbers: ER14-2012-000.

Applicants: PJM Interconnection, L.L.C.

Description: First Revised Service Agreement No. 3250; Queue No. W2-091 to be effective 4/30/2014.

Filed Date: 5/22/14.

Accession Number: 20140522-5050.

Comments Due: 5 p.m. ET 6/12/14.

Docket Numbers: ER14-2013-000.

Applicants: RJUMR ENERGY PARTNERS CORP.

Description: RJUMR Energy Partners Corp., FERC Electric Tariff to be effective 7/1/2014.

Filed Date: 5/22/14.

Accession Number: 20140522-5053.

Comments Due: 5 p.m. ET 6/12/14.

Docket Numbers: ER14-2014-000.

Applicants: PJM Interconnection, L.L.C.

Description: Notice of Cancellation of Original Service Agreement No. 2929; Queue No. W2-088 to be effective 2/14/2012.

Filed Date: 5/22/14.

Accession Number: 20140522-5055.

Comments Due: 5 p.m. ET 6/12/14.

Docket Numbers: ER14-2015-000.

Applicants: PJM Interconnection, L.L.C.

Description: First Revised Service Agreement No. 3249; Queue No. W2-088 to be effective 4/30/2014.

Filed Date: 5/22/14.

Accession Number: 20140522-5083.

Comments Due: 5 p.m. ET 6/12/14.

Docket Numbers: ER14-2016-000.

Applicants: Riverside Energy Center, LLC.

Description: Cancellation of Tariff to be effective 5/23/2014.

Filed Date: 5/22/14.

Accession Number: 20140522-5120.

Comments Due: 5 p.m. ET 6/12/14.

Docket Numbers: ER14-2017-000.

Applicants: California Independent System Operator Corporation.

Description: 2014-05-22 Full Network Model Tariff Amendment to be effective 9/8/2014.

Filed Date: 5/22/14.

Accession Number: 20140522-5137.

Comments Due: 5 p.m. ET 6/12/14.

Docket Numbers: ER14-2018-000.

Applicants: Golden Spread Electric Cooperative, Inc.

Description: Pleasant Hill SGIA Second Amendment to be effective 5/20/2014.

Filed Date: 5/22/14.

Accession Number: 20140522-5138.

Comments Due: 5 p.m. ET 6/12/14.

Take notice that the Commission received the following qualifying facility filings:

Docket Numbers: QF14-142-000.

Applicants: ACB Energy Partners, LLC.

Description: FERC Form 556 Notice of Certification of Qualifying Facility Status for a Small Power Production or Cogeneration Facility.

Filed Date: 12/11/13.

Accession Number: 20131211-5173.

Comments Due: None Applicable.

Docket Numbers: QF14-222-000.

Applicants: North Davis Sewer District.

Description: FERC Form 556 Notice of Certification of Qualifying Facility Status for a Small Power Production or Cogeneration Facility.

Filed Date: 1/6/14.

Accession Number: 20140106-5170.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 22, 2014.
Nathaniel J. Davis, Sr.,
Deputy Secretary.

[FR Doc. 2014-12711 Filed 6-2-14; 8:45 am]

BILLING CODE 6717-01-P